NATIONAL SCIENCE FOUNDATION

Agency Information Collection Activities: Comment Request

AGENCY: National Science Foundation.

ACTION: Submission for OMB review; comment request.

SUMMARY: The National Science Foundation (NSF) has submitted the following information collection requirement to OMB for review and clearance under the Paperwork Reduction Act of 1995, Pub. L. 104-13. This is the second notice for public comment; the first was published in the Federal Register at 65 FR 5916, and no comments were received. NSF is forwarding the proposed renewal submission to the Office of Management and Budget (OMB) for clearance simultaneously with the publication of this second notice. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Office of Information and Regulatory Affairs of OMB, Attention: Desk Officer for National Science Foundation, 725—17th Street, NW., Room 10235, Washington, DC 20503, and to Suzanne H. Plimpton, Reports Clearance Officer, National Science Foundation, 4201 Wilson Boulevard, Suite 295, Arlington, Virginia 22230 or send email to splimpto@nsf.gov. Comments regarding these information collections are best assured of having their full effect if received within 30 days of this notification. Copies of the submission(s) may be obtained by calling 703-306-1125 X 2017.

NSF may not conduct or sponsor a collection of information unless the collection of information displays a currently valid OMB control number and the agency informs potential persons who are to respond to the collection of information that such persons are not required to respond to the collection of information unless it displays a currently valid OMB control number.

Title: National Science Foundation Grant Proposal Guide.

OMB Control Number: 3145-0058.

Summary of Collection: The mission of the National Science Foundation is to serve as a catalyst for progress through investment in science, mathematics and engineering. The agency is guided by its longstanding commitment to the highest standards of excellence in the support of discovery and learning. NSF pledges to provide the leadership and stewardship necessary to sustain and strengthen the Nation's science, mathematics, and engineering capabilities and to promote the use of those capabilities in service to society. NSF's continuing mission is set out in the preamble to the National Science Foundation Act of 1950 (Pub. L. 507):

To promote the progress of science; to advance the national health, prosperity, and welfare; to secure the national defense; and for other purposes.

The information collected is used to help the Foundation fulfill this responsibility by initiating and supporting merit-selected research and education projects in all the scientific and engineering disciplines. NSF receives more than 30,000 proposals annually for new or renewal support for research in math/science/engineering education projects and makes approximately 10,000 new awards. The Foundation exercises its authority primarily by making merit-based grants and cooperative agreements and providing other forms of assistance to individual researchers and groups, in partnership with over 2800 colleges, universities and other institutions—public and private, state, local and federal—throughout the US. The awards are based mainly on evaluations of proposal merit submitted to the Foundation (see OMB Clearance No. 3145-0060).

The Foundation has a continuing commitment to monitor the operations of its review and award processes to identify and address excessive reporting burdens. The Foundation also is committed to monitor and identify any real or apparent inequities based on gender, race, ethnicity, or handicap of the proposed principal investigator(s)/project director(s) or co-principal investigator(s)/co-project director(s). The collection of this information is a part of the regular submission of proposal to the Foundation. This information also is protected by the Privacy Act.

Description of Respondents: Nonprofit institutions; state, local or tribal governments; and business or other for-profit.

Number of Respondents: 30,000.

Frequency of Responses: Annually.

Total Burden Hours: The Foundation estimates that an average of 120 hours of expended for each proposal submitted. If an estimated 30,000 proposals are expected during the course of one year, these figures compute to an estimated 3,600,000 public burden hours annually.

Dated: May 31, 2000.
Suzanne H. Plimpton,
Reports Clearance Officer, National Science Foundation.

[FR Doc. 00-14090 Filed 6-5-00; 8:45 am]

BILLING CODE 7555-01-M